FEDERAL COMMUNICATIONS COMMISSION

47 CFR Part 73

[DA 02-244; MM Docket No. 01-308; RM-10308]

Radio Broadcasting Services; Wickett, TX

AGENCY: Federal Communications Commission.

ACTION: Proposed rule; withdrawal.

SUMMARY: This document dismisses a petition for rule making filed by Katherine Pyeatt requesting the allotment of Channel 224A at Wickett, Texas. See 66 FR 56507, November 8, 2001. Neither Katherine Pyeatt nor any other party filed comments supporting an allotment at Wickett. As it is the Commission's policy to refrain from making an allotment absent supporting comments, we will dismiss the proposal for Wickett.

FOR FURTHER INFORMATION CONTACT: Kathleen Scheuerle, Mass Media Bureau, (202) 418-2180.

SUPPLEMENTARY INFORMATION: This is a summary of the Commission's Report and Order, MM Docket No. 01-308, adopted January 23, 2002, and released February 1, 2002. The full text of this Commission decision is available for inspection and copying during regular business hours at the FCC Reference Information Center, Portals II, 445 Twelfth Street, SW., Room CY-B402, Washington, DC, 20554. This document may also be purchased from the Commission's duplicating contractor, Qualex International, Portals II, 445 12th Street, SW., Room CY-B402, Washington, DC 20554, telephone 202-863-2893, facsimile 202-863-2898, or via e-mail qualexint@aol.com.

Federal Communications Commission.
John A. Karousos,
Chief, Allocations Branch, Policy and Rules Division, Mass Media Bureau.

[FR Doc. 02-4005 Filed 2-15-02; 8:45 am]

BILLING CODE 6712-01-P